DEPARTMENT OF VETERANS AFFAIRS

[OMB Control No. 2900-0001]

Agency Information Collection (Veteran's Application for Compensation and/or Pension) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATE: Comments must be submitted on or before January 8, 2010.

ADDRESSES: Submit written comments on the collection of information through http://www.Regulations.gov; or to VA's OMB Desk Officer, OMB Human Resources and Housing Branch, New Executive Office Building, Room 10235, Washington, DC 20503 (202) 395-7316. Please refer to “OMB Control No. 2900-0001” in any correspondence.

FOR FURTHER INFORMATION CONTACT: Denise McLamb, Enterprise Records Service (005R1B), Department of Veterans Affairs, 810 Vermont Avenue, NW., Washington, DC 20420, (202) 461-7485, fax (202) 273-0443 or e-mail denise.mclamb@mail.va.gov. Please refer to “OMB Control No. 2900-0001.”

SUPPLEMENTARY INFORMATION: Titles:

a. Veteran's Application for Compensation and/or Pension, VA Form 21-526.

b. Veteran's Supplemental Claim Application, VA Form 21-526b.

c. Authorization and Consent Release Information to the Department of Veterans Affairs (VA), VA Form 21-4142.

OMB Control Number: 2900-0001.

Type of Review: Revision of a currently approved collection.

Abstracts:

a. Veterans complete VA Form 21-526 to apply for compensation and/or pension benefits.

b. Veterans who previously filed a claim using VA Form 21-526, Application for Compensation or Pension, and who wish to request an increase in a service connected condition, reopen their claim for a previously denied claim, and/or file a claim for a new service-connected condition must complete VA Form 21-526b. VA Form 21-526b will be used for supplemental claims for disability compensation.

c. Veterans who need VA's assistance in obtaining non-VA medical records must complete VA Form 21-4142.

An agency may not conduct or sponsor, and a person is not required to respond to a collection of information unless it displays a currently valid OMB control number. The Federal Register Notice with a 60-day comment period soliciting comments on this collection of information was published on September 9, 2009, at pages 49916-49917.

Affected Public: Individuals or households.

Estimated Annual Burden:

a. VA Form 21-526—391,708.

b. VA Form 21-526b—50,000.

c. VA Form 21-4142—274.

Estimated Average Burden per Respondent:

a. VA Form 21-526—1 hour.

b. VA Form 21-526b—15 minutes.

c. VA Form 21-4142—5 minutes.

Frequency of Response: On occasion.

Estimated Number of Respondents:

a. VA Form 21-526—391,708.

b. VA Form 21-526b—200,000.

c. VA Form 21-4142—3,292.

Dated: December 4, 2009.
By direction of the Secretary.
Denise McLamb,
Program Analyst, Enterprise Records Service.

[FR Doc. E9-29304 Filed 12-8-09; 8:45 am]

BILLING CODE 8320-01-P